DEPARTMENT OF VETERANS AFFAIRS

Veterans' Advisory Committee on Education; Notice of Meeting

The Department of veterans Affairs gives notice under Public Law 92-463 (Federal Advisory Committee Act) that the veterans' Advisory Committee on Education will meet on Monday, January 27, 2003, from 8:30 a.m. to 4 p.m. and Tuesday, January 28, 2003, from 8:30 a.m. to 12 p.m. The meeting will take place at the Department of Veterans Affairs, Room 542, 1800 G Street, NW., Washington, DC. The meeting is open to the public. The purpose of the committee is to provide advice to the Secretary of Veterans Affairs on the administration of education and training programs for veterans and servicepersons, reservists and dependents of veterans under Chapters 30, 32, 35, and 36, Title 38, and Chapter 1606 of Title 10, United States Code.

On January 27, the agenda topics for this meeting will include the Partnership for Veterans' Education, recent legislation, the Veterans' Education Outreach program, funding of State Approving Agencies, financial aid and the Montgomery GI Bill, electronic certification, accelerated payment procedures for “high-tech training”, Education Liaison Representative issues, transfer of GI Bill Benefits status and related issues that the committee members may choose to introduce. On January 28,the committee will discuss future meeting locations and topics, subcommittee formation and administration, and desirability of a committee Web site.

Any member of the public wishing to attend should contact Mr. Stephen Dillard or Mr. Michael Yunker, Department of Veterans Affairs, Education Service (225B), 810 Vermont Avenue, NW., Washington, DC 20420, at (202) 273-7187. Interested persons may attend, appear before, or file statements with the Committee. Statements, if in written form, may be filed before the meeting, or within 10 days after the meeting. Oral statements will be heard at 9:15 a.m., Tuesday, January 28, 2003.

Dated: December 18, 2002.
By Direction of the Secretary.
Nora E. Egan,
Committee Management Officer.

[FR Doc. 02-32626 Filed 12-26-02; 8:45 am]

BILLING CODE 8320-01-M